DEPARTMENT OF HEALTH AND HUMAN SERVICES

Centers for Disease Control and Prevention

[60Day-06-0398x]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of an Intervention to Increase Colorectal Cancer Screening in Primary Care Clinics—New—National Center for Chronic Disease Prevention and Health Promotion (NCCDPHP), Centers for Disease Control and Prevention (CDC).

Background and Brief Description

Colorectal cancer (CRC) is the third most frequent form of cancer and the second leading cause of cancer-related deaths among both men and women in the United States. Research shows that screening can reduce both the occurrence of colorectal cancer and colorectal cancer deaths. Screening is beneficial for: (1) Detection and removal of precancerous polyps, resulting in patients recovering without progression to a diagnosis of cancer, and (2) early detection of CRC for more effective treatment and improved survival. Regular CRC screening is recommended for people aged 50 years and older. Many screening tests are widely available and screening has been shown to be effective in reducing CRC mortality. Despite this demonstrated effectiveness, CRC screening remains low. Some reasons attributed to the low screening rates include limited public awareness of CRC and the benefits of screening, failure of health care providers to recommend screening to patients, and inefficient surveillance and support systems in many health care settings.

The purpose of this one-time study is to evaluate and understand the effect of a multi-component intervention on CRC screening rates in primary care clinics. The study will also examine the effects of the intervention conditions on behavioral outcomes (e.g., clinician-patient discussions about CRC screening) and on attitudes, beliefs, opinions, and social influence surrounding CRC screening among patients. The target population includes average-risk patients aged 50-80 years, clinicians, and clinic support staff within the primary care clinics in two managed care organizations (MCOs). There are three tasks in this study. In Task 1, 140 primary care clinicians will complete a survey assessing demographics, opinions about preventive services, CRC screening training and practices, satisfaction with CRC screening, and CRC screening beliefs, facilitators, and barriers. The survey will be administered to primary care clinicians post-intervention. In Task 2, 140 clinic support staff will complete a survey assessing demographics, work-related responsibilities, opinions about preventive services, CRC training and practices, satisfaction with CRC screening, and CRC screening beliefs, facilitators and barriers. The survey will be administered to clinic support staff post intervention. In Task 3, clinic patients will complete a survey assessing demographics, health status, receipt of previous CRC screening and other preventive services, knowledge and opinions about CRC and CRC screening, and social support. The survey will be administered to 3307 patients pre-intervention and 3307 patients post-intervention. Of these, 972 patients will receive both the pre- and post-intervention survey.

There are no costs to respondents except their time to participate in the survey.

Estimated Annualized Burden Hours

Respondents | No. of respondents | No. of responses per respondent | Average burden per response (in hours) | Total burden (hours)
Clinicians | 140 | 1 | 30/60 | 70
Clinic Support Staff | 140 | 1 | 25/60 | 58
Patients surveyed only at baseline | 2335 | 1 | 20/60 | 788
Patients surveyed at baseline and follow-up | 972 | 2 | 20/60 | 648
Patients surveyed only at follow-up | 2335 | 1 | 20/60 | 788
Totals |  |  |  | 2352

Dated: August 28, 2006.
Joan F. Karr,
Acting Reports Clearance Officer, Centers for Disease Control and Prevention.

[FR Doc. E6-14622 Filed 9-1-06; 8:45 am]

BILLING CODE 4163-18-P